INTERNATIONAL TRADE COMMISSION

[USITC SE-03-024]

Sunshine Act Meeting

AGENCY: United States International Trade Commission.

Time and date: August 4, 2003 at 1 p.m.

Place: Room 101, 500 E Street SW., Washington, DC 20436, Telephone: (202) 205-2000.

Status: Open to the public.

Matters to be considered: 1. Agenda for future meetings: none.

2. Minutes.

3. Ratification List.

4. Inv. Nos. 731-TA-1043-1045 (Preliminary) (Polyethylene Retail Carrier Bags from China, Malaysia, and Thailand)—briefing and vote. (The Commission is currently scheduled to transmit its determination to the Secretary of Commerce on August 4, 2003; Commissioners' opinions are currently scheduled to be transmitted to the Secretary of Commerce on or before August 11, 2003.)

5. Inv. Nos. 731-TA-951-952 (Preliminary) (Remand) (Blast Furnace Coke from China and Japan)—briefing and vote. (The Commission is currently scheduled to transmit its views on remand to the United States Court of International Trade on or before August 18, 2003.)

6. Outstanding action jackets: none.

In accordance with Commission policy, subject matter listed above, not disposed of at the scheduled meeting, may be carried over to the agenda of the following meeting.

Issued: July 24, 2003.
By order of the Commission.
Marilyn R. Abbott,
Secretary to the Commission.

[FR Doc. 03-19326 Filed 7-25-03; 11:18 am]

BILLING CODE 7020-02-P